DEPARTMENT OF AGRICULTURE

Food and Nutrition Service

Agency Information Collection Activities: Proposed Collection; Comment Request—Food Programs Reporting System

AGENCY: Food and Nutrition Service (FNS), USDA.

ACTION: Notice.

SUMMARY: In accordance with the Paperwork Reduction Act of 1995, this notice invites the general public and other public agencies to comment on this proposed information collection. This is a revision of a currently approved information collection request for the electronic submission of programmatic and financial data through the Food Programs Reporting System (FPRS). The data is currently collected on approved Office of Management and Budget (OMB) forms.

DATES: Written comments must be received on or before September 30, 2019.

ADDRESSES: Comments may be sent to: Tim Kreh, Food and Nutrition Service, U.S. Department of Agriculture, 3101 Park Center Drive, Room 706, Alexandria, VA 22302. Comments will also be accepted through the Federal eRulemaking Portal. Go to http://www.regulations.gov, and follow the online instructions for submitting comments electronically. All responses to this notice will be summarized and included in the request for Office of Management and Budget approval. All comments will be a matter of public record.

FOR FURTHER INFORMATION CONTACT: Requests for additional information or copies of this information collection should be directed to Tim Kreh at 703-305-2339.

SUPPLEMENTARY INFORMATION: Comments are invited on: (a) Whether the proposed collection of information is necessary for the proper performance of the functions of the agency, including whether the information shall have practical utility; (b) the accuracy of the agency's estimate of the burden of the proposed collection of information, including the validity of the methodology and assumptions that were used; (c) ways to enhance the quality, utility, and clarity of the information to be collected; and (d) ways to minimize the burden of the collection of information on those who are to respond, including use of appropriate automated, electronic, mechanical, or other technological collection techniques or other forms of information technology.

Title: Food Programs Reporting System (FPRS).

Form Numbers: SF-425; FNS-10; FNS-13; FNS-44.

OMB Number: 0584-0594.

Expiration Date: 09/30/2019.

Type of Request: Revision of a currently approved information collection request.

Abstract: The Food and Nutrition Service (FNS) is the Federal agency responsible for managing the domestic nutrition assistance programs. Its mission is to increase food security and reduce hunger in partnership with cooperating organizations by providing children and low-income people access to food, a healthful diet, and nutrition education in a manner that supports American agriculture and inspires public confidence. The domestic nutrition assistance programs include the Supplemental Nutrition Assistance Program (SNAP), the Child Nutrition programs such as the National School Lunch (NSLP) and School Breakfast Programs (SBP), Special Supplemental Nutrition Program for Women, Infants and Children (WIC), Commodity Supplemental Food Program (CSFP), Food Distribution Program on Indian Reservations (FDPIR), The Emergency Food Assistance Program (TEFAP), and the Senior Farmers' Market Nutrition Program (SFMNP). Currently, the nutrition assistance programs managed by FNS touch the lives of 1 in 4 Americans over the course of a year.

Federal nutrition assistance programs operate as partnerships between FNS, State, Indian Tribal Organizations (ITOs), and local organizations that interact directly with program participants. States and ITOs voluntarily enter into agreements with the Federal Government to operate programs according to Federal standards in exchange for program funds that cover all benefit costs, and a significant portion of administrative expenses. Under these agreements, FNS is responsible for implementing statutory requirements that set national program standards for eligibility and benefits, providing Federal funding to States, ITOs and local partners, and monitoring and evaluation to make sure that program structures and policies are properly implemented and effective in meeting program missions. States, ITOs and local organizations are responsible for delivering benefits efficiently, effectively, and in a manner consistent with national requirements. States and ITOs may operate all or some of the 15 different domestic nutrition assistance programs.

The FNS is consolidating certain programmatic and financial data reporting requirements that are currently approved by the Office of Management and Budget, under the Food Programs Reporting System (FPRS), an electronic reporting system. The purpose is to give States and ITO agencies one portal for the various reporting required for the programs that the States and ITOs operate. The data collected is used for a variety of purposes; mainly program evaluation, planning, audits, funding, research, regulatory compliance and general statistics.

Affected Public: State, Local and Tribal Government.

Estimated Number of Respondents: 12,708.

The average estimated number of respondents varies depending on which specific nutrition assistance program is being reported on.

Estimated Number of Responses per Respondent: 2.889.

The average estimated number of responses per respondent varies depending on the program report. Reporting is completed monthly, quarterly, semi-annual and annually, depending on the type of report.

Estimated Total Annual Responses: 36,709.

Estimated Time per Response: 2.879.

The average estimated time of response varies depending on respondent group and type of program report, as shown in the table.

Estimated Total Annual Burden on Respondents: 105,670.

Food and Nutrition Service Data Collection Information
[By program]
Affected public | Respondent program | Estimated number of respondents | Frequency of response per respondent | Total annual response | Estimated hours per response | Annual burden hours
Annual Burden Hours
State Agencies Child Nutrition Program | CN—NSLP, SBP, SMP, CACFP and Food Distribution Program (FDP) State Agency Program Staff | 3,335.00 | 4.077 | 13,597.0 | 1.725 | 23,457.0
State Agencies Supplemental Nutrition Assistance Program | SNAP, SNAP-ED, CNMI and Puerto Rico Program Staff | 4,350.00 | 2.099 | 9,130.0 | 6.078 | 55,492.8
Food Distribution Program | CSFP, FDPNE, FDPIR and TEFAP Program Staff | 1,335.00 | 3.859 | 5,152.0 | 2.653 | 13,670.8
Special Supplemental Food Program for Women, Infants and Children (WIC) | WIC, AARA, Farmers Market; Senior Farmers Market Program Staff | 3,688.00 | 2.394 | 8,830.0 | 1.478 | 13,049.9
Overall Summary of Total Reporting Burden Hours Estimates for State Agency Program Staff | 12,708.00 | 2.889 | 36,709.0 | 2.879 | 105,670.5

Brandon Lipps,
Administrator, Food and Nutrition Service.

[FR Doc. 2019-16178 Filed 7-29-19; 8:45 am]

BILLING CODE 3410-30-P